DEPARTMENT OF TRANSPORTATION

Federal Aviation Administration

Noise Exposure Map Notice; Hartsfield-Jackson International Airport, Atlanta, GA

AGENCY: Federal Aviation Administration, DOT.

ACTION: Notice.

SUMMARY: The Federal Aviation Administration (FAA) announces its determination that the Noise Exposure Maps submitted by City of Atlanta/Department of Aviation for Hartsfield-Jackson International Airport Airport under the provisions of 49 U.S.C. 47501 et seq. (Aviation Safety and Noise Abatement Act) and 14 CFR part 150 are in compliance with applicable requirements.

DATES: The date of the FAA's determination on the noise exposure maps is December 19, 2018.

FOR FURTHER INFORMATION CONTACT: Felicia Reeves, Federal Aviation Administration, Southern Region/Atlanta Airports District Office, 1701 Columbia Ave., Room 220, College Park, GA 30337, (404) 305-6708.

SUPPLEMENTARY INFORMATION: This notice announces that the FAA finds that the Noise Exposure Maps submitted for Hartsfield-Jackson International Airport are in compliance with applicable requirements of Title 14 Code of Federal Regulations (CFR) Part 150, effective December 19, 2018. Under 49 U.S.C. 47503 of the Aviation Safety and Noise Abatement Act (the Act), an airport operator may submit to the FAA Noise Exposure Maps which meet applicable regulations and which depict non-compatible land uses as of the date of submission of such maps, a description of projected aircraft operations, and the ways in which such operations will affect such maps. The Act requires such maps to be developed in consultation with interested and affected parties in the local community, government agencies, and persons using the airport. An airport operator who has submitted Noise Exposure Maps that are found by FAA to be in compliance with the requirements of 14 CFR part 150, promulgated pursuant to the Act, may submit a Noise Compatibility Program for FAA approval which sets forth the measures the airport operator has taken or proposes to take to reduce existing non-compatible uses and prevent the introduction of additional non-compatible uses.

The FAA has completed its review of the Noise Exposure Maps and accompanying documentation submitted by the City of Atlanta/Department of Aviation. The documentation that constitutes the “Noise Exposure Maps” as defined in 14 CFR 150.7 includes: Map A—Existing (Year 2017) Noise Exposure Map, Map B—Future (Year 2022), Flight Track System-Generated Flight Tracks, 2017 East/West Flow Corridors and Departure Profiles. The FAA has determined that these Noise Exposure Maps and accompanying documentation are in compliance with applicable requirements. This determination is effective on December 19, 2018.

FAA's determination on the airport operator's Noise Exposure Maps is limited to a finding that the maps were developed in accordance with the procedures contained in Appendix A of 14 CFR part 150. Such determination does not constitute approval of the airport operator's data, information or plans, or a commitment to approve a Noise Compatibility Program or to fund the implementation of that Program. If questions arise concerning the precise relationship of specific properties to noise exposure contours depicted on a Noise Exposure Map submitted under Section 47503 of the Act, it should be noted that the FAA is not involved in any way in determining the relative locations of specific properties with regard to the depicted noise exposure contours, or in interpreting the Noise Exposure Maps to resolve questions concerning, for example, which properties should be covered by the provisions of Section 47506 of the Act. These functions are inseparable from the ultimate land use control and planning responsibilities of local government. These local responsibilities are not changed in any way under 14 CFR part 150 or through FAA's review of Noise Exposure Maps. Therefore, the responsibility for the detailed overlaying of noise exposure contours onto the map depicting properties on the surface rests exclusively with the airport operator that submitted those maps, or with those public agencies and planning agencies with which consultation is required under Section 47503 of the Act. The FAA has relied on the certification by the airport operator, under 14 CFR 150.21, that the statutorily required consultation has been accomplished.

Copies of the full Noise Exposure Maps documentation and of the FAA's evaluation of the maps are available for examination by appointment at the following locations: Federal Aviation Administration, Atlanta Airports District Office, 1701 Columbia Ave., Room 220, College Park GA 30337.

To arrange an appointment to review the documents and any questions may be directed to the individual named above under the heading, FOR FURTHER INFORMATION CONTACT.

Issued in Atlanta Airports District Office, College Park, GA on December 19, 2018.
Jesse Carriger,
ASO-610 Branch Manager, Southern Region Airports Division.

[FR Doc. 2019-00566 Filed 1-30-19; 8:45 am]

BILLING CODE 4910-13-P